COMMITTEE FOR PURCHASE FROM PEOPLE WHO ARE BLIND OR SEVERELY DISABLED

Procurement List; Additions and Deletions

AGENCY: Committee for Purchase From People Who Are Blind or Severely Disabled.

ACTION: Additions to and deletions from Procurement List.

SUMMARY: This action adds to the Procurement List products and services to be furnished by nonprofit agencies employing persons who are blind or have other severe disabilities, and deletes from the Procurement List products and a service previously furnished by such agencies.

DATES: Effective Date: July 20, 2009.

ADDRESSES: Committee for Purchase From People Who Are Blind or Severely Disabled, Jefferson Plaza 2, Suite 10800, 1421 Jefferson Davis Highway, Arlington, Virginia, 22202-3259.

FOR FURTHER INFORMATION CONTACT: Barry S. Lineback, Telephone: (703) 603-7740, Fax: (703) 603-0655, or e-mail CMTEFedReg@AbilityOne.gov.

SUPPLEMENTARY INFORMATION:

Additions

On 4/10/2009, 4/17/2009, and 4/24/2009 the Committee for Purchase From People Who Are Blind or Severely Disabled published notices (74 FR No. 68 page 16368, 74 FR No. 73 pages 17824-5, and 74 FR No. 78 pages 18694-5) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

NSN: 6850-01-167-0678—Cleaner, Brake Parts.

NPA: Lighthouse for the Blind, St. Louis, MO.

Contracting Activity: Defense Logistics Agency, Defense Supply Center Columbus, OH.

Coverage: C-list for the total requirement for the Defense Supply Center Columbus, Columbus, OH.

NSN: 7510-00-NIB-0869—Tape, Package Sealing Pack w/Pistol Grip Dispenser.

NSN: 7510-00-NIB-0870—Tape, Package Sealing Pack w/Handheld Dispenser.

NSN: 7510-00-NIB-0871—Tape, Package Sealing Prepack Commercial Grade.

NSN: 7510-00-NIB-0872—Tape, Packaging Sealing Prepack Economy Grade.

NPA: Cincinnati Association for the Blind, Cincinnati, OH.

Contracting Activity: Federal Acquisition Service, GSA/FSS OFC SUP CTR—Paper Products, New York, NY.

Coverage: A-List for the total Government requirement as aggregated by the General Services Administration.

NSN: 8105-00-NIB-1281—Bag, Trash, Insect Repellent.

NSN: 8105-00-NIB-1282—Bag, Trash, Insect Repellent.

NSN: 8105-00-NIB-1283—Bag, Trash, Insect Repellent.

NSN: 8105-00-NIB-1284—Bag, Trash, Insect Repellent.

NSN: 8105-00-NIB-1285—Bag, Trash, Insect Repellent.

NSN: 8105-00-NIB-1286—Bag, Trash, Insect Repellent.

NSN: 8105-00-NIB-1287—Bag, Trash, Insect Repellent.

NSN: 8105-00-NIB-1288—Bag, Trash, Insect Repellent.

NPA: Envision, Inc., Wichita, KS.

Contracting Activity: Federal Acquisition Service, GSA/FSS OFC SUP CTR—Paper Products, New York, NY.

Coverage: B-List for the broad Government requirement as aggregated by the General Services Administration.

Services

Service Type/Location: Laundry Services, Marine Corps Base, Camp Lejeune, NC.

NPA: Chesapeake Service Systems, Inc., Chesapeake, VA.

Contracting Activity: Dept of the Navy, Commanding General, Camp Lejeune, NC.

Service Type/Location: Warehousing, Redstone Arsenal, Huntsville, AL.

NPA: Alabama Goodwill Industries, Inc., Birmingham, AL.

Contracting Activity: Defense Commissary Agency (DECA), Fort Lee, VA.

Service Type/Location: Custodial Services, Camp Bullis Gymnasium—Building 5031, 6929 Camp Bullis Rd, Camp Bullis, TX.

NPA: Professional Contract Services, Inc., Austin, TX.

Contracting Activity: Dept of the Army, Xr W6bb ACA Sam Houston, TX.

Service Type/Location: Grounds Maintenance, Post Wide, Fort Campbell, KY.

NPA: PRIDE Industries, Roseville, CA.

Contracting Activity: Dept of the Army, XR W6bb ACA Fort Campbell, KY.

Deletions

On 4/10/2009 and 4/17/2009, the Committee for Purchase From People Who Are Blind or Severely Disabled published notices (74 FR No. 68 pages 16368-9 and 74 FR No. 73 pages 17824-5) of proposed deletions from the Procurement List.

After consideration of the relevant matter presented, the Committee has determined that the products and service listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and service to the Government.

3. There are no known regulatory alternatives which would accomplish the objectives of the Javits-Wagner-O'Day Act (41 U.S.C. 46-48c) in connection with the products and service deleted from the Procurement List.

End of Certification

Accordingly, the following products and service are deleted from the Procurement List:

Products:

NSN: 7510-01-390-0704—Illuminator/Corrector Stx and Refills.

NSN: 7510-01-390-0705—Illuminator/Corrector Stx and Refills.

NSN: 7510-01-390-0708—Illuminator/Corrector Stx and Refills.

NPA: San Antonio Lighthouse for the Blind, San Antonio, TX.

Contracting Activity: GSA/FSS OFC SUP CTR—Paper Products, New York, NY.

NSN: 7520-01-483-8903—Paper Cutter, Rotary Precision.

NPA: The Lighthouse for the Blind, Inc. (Seattle Lighthouse), Seattle, WA.

Contracting Activity: GSA/FSS OFC SUP CTR—Paper Products, New York, NY.

Service

Service Type/Location: Janitorial/Custodial, National Zoological Park, 111 North Capitol Street, NE., Washington, DC.

NPA: Melwood Horticultural Training Center, Upper Marlboro, MD.

Contracting Activity: SMITHSONIAN INSTITUTION, Washington DC.

Patricia Briscoe,
Deputy Director, Business Operations.

[FR Doc. E9-14385 Filed 6-18-09; 8:45 am]

BILLING CODE 6353-01-P